DEPARTMENT OF THE INTERIOR

Bureau of Land Management

[AZ-952-09-1420-00]

Arizona; Notice of Filing of Plats of Survey

September 28, 2000.

1. The plats of survey of the following described land were officially filed in the Arizona State Office, Phoenix, Arizona on the dates indicated:

A plat representing the dependent resurvey of the Seventh Standard Parallel North through Range 15 East, (south boundary), the east, west and north boundaries and the subdivisional lines, Township 29 North, Range 15 East of the Gila and Salt River Meridian, Arizona, accepted July 17, 2000 and officially filed July 28, 2000.

This plat was prepared at the request of the Bureau of Indian Affairs, Phoenix Area Office.

A plat representing the dependent resurvey of the Seventh Standard Parallel North through Range 16 East, the Fourth Guide Meridian East through Township 29 North, the north boundary and the subdivisional lines and the subdivision of section 34, Township 29 North, Range 16 East of the Gila and Salt River Meridian, Arizona, accepted July 20, 2000 and officially filed August 4, 2000.

This plat was prepared at the request of the Bureau of Indian Affairs, Phoenix Area Office.

A plat representing the dependent resurvey of the Seventh Standard Parallel North through Range 17 East, (south boundary), the east and north boundaries and the subdivisional lines Township 29 North, Range 17 East of the Gila and Salt River Meridian, Arizona, accepted July 25, 2000 and officially filed August 4, 2000.

This plat was prepared at the request of the Bureau of Indian Affairs, Phoenix Area Office.

A plat representing the corrective resurvey of a portion of the subdivision of section 32 and a metes-and-bounds survey in section 32, Township 11 North, Range 20 East of the Gila and Salt River Meridian, Arizona, accepted August 25, 2000 and officially filed September 1, 2000.

This plat was prepared at the request of the United States Forest Service.

A plat representing the survey of the Sixth Guide Meridian East, (west boundary), the east and north boundaries, and the subdivisional lines, Township 33 North, Range 25 East of the Gila and Salt River Meridian, Arizona, accepted July 27, 2000 and officially filed August 10, 2000.

This plat was prepared at the request of the Bureau of Indian Affairs, Navajo Area Office.

A plat representing the survey of the east and north boundaries, and the subdivisional lines, Township 33 North, Range 26 East of the Gila and Salt River Meridian, Arizona, accepted July 31, 2000 and officially filed August 10, 2000.

This plat was prepared at the request of the Bureau of Indian Affairs, Navajo Area Office.

A plat in two sheets, representing the dependent resurvey of a portion of the east boundary and a portion of the subdivisional lines and the subdivision of section 25, Township 10 North, Range 6 West of the Gila and Salt River Meridian, Arizona, accepted August 25, 2000 and officially filed September 1, 2000.

This plat was prepared at the request of the Bureau of Land Management, Phoenix Field Office.

A plat in three sheets, representing the dependent resurvey of a portion of the subdivisional lines and the metes-and-bounds survey of the Mount Trumbull Wilderness Area Boundary, Township 35 North, Range 7 West of the Gila and Salt River Meridian, Arizona accepted September 18, 2000 and officially filed September 22, 2000.

This plat was prepared at the request of the Bureau of Land Management, Arizona State Office.

A plat in three sheets, representing the dependent resurvey of a portion of the subdivisional lines and the metes-and-bounds survey of the Mount Trumbull Wilderness Area Boundary, Township 34 North, Range 8 West of the Gila and Salt River Meridian, Arizona, accepted September 18, 2000 and officially filed September 22, 2000.

This plat was prepared at the request of the Bureau of Land Management, Arizona State Office.

A plat in six sheets, representing the dependent resurvey of a portion of the south and east boundaries and a portion of the subdivisional lines, the subdivision of section 15 and the metes-and-bounds survey of the Mount Trumbull Wilderness Area Boundary, Township 35 North, Range 8 West of the Gila and Salt River Meridian, Arizona, accepted September 5, 2000 and officially filed September 15, 2000.

This plat was prepared at the request of the Bureau of Land Management, Arizona State Office.

A supplemental plat in two sheets, Township 22 North, Range 18 West, sections 9, 14, 15 and 23 of the Gila and Salt River Meridian, Arizona, accepted August 14, 2000 and officially filed August 24, 2000.

This plat was prepared at the request of the Bureau of Land Management, Arizona State Office.

A plat representing the dependent resurvey of a portion of the north boundary, and a portion of the subdivisional lines, the subdivision of section 2 and the metes-and-bounds survey in sections 2 and 11, Township 11 South, Range 25 West of the Gila and Salt River Meridian, Arizona, accepted May 15, 2000 and officially filed May 25, 2000.

This plat was prepared at the request of the Bureau of Land Management, Yuma Field Office.

These plats will immediately become the basic records for describing the land for all authorized purposes. These plats have been placed in the open files and are available to the public for information only.

2. All inquires relation to these lands should be sent to the Arizona State Office, Bureau of Land Management, 222 N. Central Avenue, P.O. Box 1552, Phoenix, Arizona 85001-1552.

Kenny D. Ravnikar,
Chief Cadastral Surveyor of Arizona.

[FR Doc. 00-26036 Filed 10-10-00; 8:45 am]

BILLING CODE 4310-32-P